DEPARTMENT OF STATE

[Public Notice: 11836]

30-Day Notice of Proposed Information Collection: Request for Department of State Personal Identification Card

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to December 7, 2022.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument, and supporting documents, to John Ferguson, who may be reached on 202-647-0511 or at fergusonjm3@state.gov.

SUPPLEMENTARY INFORMATION:

• Title of Information Collection: Request for Department of State Personal Identification Card.

• OMB Control Number: 1405-0232.

• Type of Request: Extension of a currently approved collection.

• Originating Office: Office of Domestic Facilities Protection (DS/DO/DFP).

• Form Number: DS-1838 and DS-7783.

• Respondents: Department employees and contractors.

• Estimated Number of Respondents: 30,000.

• Estimated Number of Responses: 30,000.

• Average Time per Response: 5 minutes.

• Total Estimated Burden Time: 2,500 hours per year.

• Frequency: On occasion (when new badge is required or badge expires).

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The collection of the information requested on the DS-1838 and DS-7783 is necessary to comply with:

• Homeland Security Presidential Directive 12 (HSPD-12) was issued August 27, 2004 to set policy for a common, reliable, and secure identification standard for federal employees and contractors for accessing federally-controlled facilities and federal information systems. In order to keep Federal and other facilities where there is potential for terrorist attacks secure, wide variations in the quality and security of forms of identification need to be eliminated.

• Federal Information Processing Standard Publication 201 (FIPS 201) is a United States Federal Government standard that specifies Personal Identity Verification (PIV) requirements for Federal employees and contractors. The NIST (National Institute of Standards and Technology) Computer Security Division initiated a new program for improving the identification and authentication of Federal employees and contractors for access to Federal facilities and information systems.

All Department employees and contractors are required to submit application for a Personal Identification Card (DS-1838 domestically or DS-7783 overseas) at the time of hire.

Methodology

Information is collected by use of the DS-1838 (available through the Automated Badge Request) or DS-7783. Neither form is publicly available but must be downloaded from within the Department.

K. Andrew Wroblewski,
Deputy Assistant Secretary, Assist. Director, Diplomatic Security Service, Bureau of Diplomatic Security, Department of State.

[FR Doc. 2022-24176 Filed 11-4-22; 8:45 am]

BILLING CODE 4710-43-P